INTERNATIONAL TRADE COMMISSION

Meeting; Sunshine Act

AGENCY HOLDING THE MEETING: United States International Trade Commission

TIME AND DATE: March 22, 2000 at 11 a.m.

PLACE: Room 101, 500 E Street SW, Washington, DC 20436, Telephone: (202) 205-2000.

STATUS: Open to the public.

MATTERS TO BE CONSIDERED:

1. Agenda for future meeting: none.

2. Minutes.

3. Ratification List.

4. Inv No. 731-TA-377 (Review) (Internal Combustion Industrial Forklift Trucks from Japan)—briefing and vote. (The Commission will transmit its determination to the Secretary of Commerce on April 4, 2000.)

5. Inv. Nos. 731-TA-474-475 (Review) (Chrome-Plated Lug Nuts from China and Taiwan)— briefing and vote. (The Commission will transmit its determination to the Secretary of Commerce on March 29, 2000.)

6. Outstanding action jackets: none

In accordance with Commission policy, subject matter listed above, not disposed of at the scheduled meeting, may be carried over to the agenda of the following meeting.

By order of the Commission:
Issued: March 15, 2000.
Donna R. Koehnke,
Secretary.

[FR Doc. 00-7071 Filed 3-17-00; 12:10 pm]

BILLING CODE 7020-02-P